OFFICE OF PERSONNEL MANAGEMENT

Submission for Review: Reinstatement of a Previously Approved Information Collection With Revision, Office of Personnel Management (OPM) Standard Form (SF) 15, Application for 10-Point Veteran Preference, OMB No. 3206-0001

AGENCY: Office of Personnel Management.

ACTION: 30-Day notice and request for comments.

SUMMARY: The Office of Personnel Management (OPM)'s Talent Acquisition and Workforce Shaping Center offers the general public and other Federal agencies the opportunity to comment on a request for reinstatement of a revised information collection for the Standard Form (SF) 15, Application for 10-Point Veteran Preference. As required by the Paperwork Reduction Act of 1995, as amended by the Clinger-Cohen Act, OPM is soliciting comments for this collection. The information collection was previously published in the Federal Register on November 21, 2017, allowing for a 60-day public comment period. Two comments were received for this information collection. The purpose of this notice is to allow an additional 30 days for public comments.

DATES: Comments are encouraged and will be accepted until December 28, 2018. This process is conducted in accordance with 5 CFR 1320.1.

ADDRESSES: Interested persons are invited to submit written comments on the revised information collection to Kimberly A. Holden, Deputy Associate Director for Talent Acquisition and Workforce Shaping, Employee Services, U.S. Office of Personnel Management, Room 6351D, 1900 E Street NW, Washington, DC 20415-9700; email employ@opm.gov; or fax (202) 606-2329; and to OMB Designee, OPM Desk Officer, Office of Management and Budget, Office of Information and Regulatory Affairs, New Executive Office Building NW, Room 10235, Washington, DC 20503; email oira_submission@omb.eop.gov; or fax (202) 395-6974.

FOR FURTHER INFORMATION CONTACT:

A copy of this information collection request, with applicable supporting documentation, may be obtained by contacting the Office of Information and Regulatory Affairs, Office of Management Budget, 725 17th Street NW, Washington, DC 20503, Attention: Desk Officer for the Office of Personnel Management or sent via email to oira_submission@omb.eop.gov or faxed to (202) 395-6974.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The SF 15, Application for 10-Point Veteran Preference, is used by veterans as both a request for preference and a guide to determine the appropriate documentation to submit to support their claims of 10-point veterans' preference when applying for Federal employment. The SF 15, and the accompanying documentation, is used by agencies, OPM examining offices, and agency appointing officials to adjudicate individuals' claims for veterans' preference in accordance with the Veterans' Preference Act of 1944, as amended. The proposed revisions to the SF 15 are necessary to update language as a result of the enactment of the Gold Star Fathers Act of 2015 (Pub. L. 114-62), derived veterans' preference for parents, and to make additional corrections on the form, as follows:

• Page 1, Item 9 is revised to reflect derived veterans' preference for parents.

• Page 2, Item A, 4th bullet is corrected to read that certification is of an expected discharge or release from active duty service in the armed forces under honorable conditions not later than 120 days after the date the certification is submitted.

• Page 2, Items C and F are corrected to reflect derived veterans' preference for parents.

• Several punctuation errors are corrected.

Comments

OPM received comments from two Federal agencies. One agency commented that the form has practical utility and is needed to properly adjudicate veterans' preference in case exam announcements. The same agency agreed with OPM's analysis and commented that the changes in the form are likely to provide small increases in the quality, utility and clarity of the information to be collected. This agency made three suggestions on the content of the form. First, on Page 2, Item F, the agency suggested changing “physician” to “health care provider” to be more in line with current regulations and to recognize that patients may be treated by someone other than a physician. OPM agrees and is changing “physician” to “licensed medical professional.”

Second, the agency asked to have the veteran's signature block added back on the form to certify that the applicant has read, understood, and is providing accurate information. OPM is not adopting this suggestion. Many veterans and other applicants claiming 10-point veterans' preference complete an electronic version of the SF 15 which can make signing the form difficult. After an offer of employment is made and/or at the time of appointment, an applicant signs the Optional Form (OF) 306, Declaration for Federal Employment, certifying that all application material submitted is true, correct, complete, and made in good faith. This covers the SF 15 submitted at the time of application and, therefore, it is unnecessary for the applicant to sign the SF 15 separately.

Third, the agency suggested adding web links to the general veteran information from OPM to assist applicants. OPM is adopting this suggestion and adding the OPM web address in the instructions section on the form.

To minimize the burden of collection of information on veterans, another agency suggested adding a statement on page 2 to indicate that questions 1-7 only need to be answered if the person claiming preference is not the veteran. OPM is adopting this suggestion. This same agency suggested adding clarity to item C on page 2 to state that “all of the following” must be included in the documentation provided by spouses and parents. OPM is adopting this suggestion.

The SF 15 will continue to be available as a PDF fillable form for applicant use. The only acceptable version of this form will be as stated above, but consistent with current practice, the form may be submitted electronically or in hard copy. The SF 15 will be obtainable on the OPM website at https://www.opm.gov/forms/standard-forms/.

Analysis

Agency: Talent Acquisition and Workforce Shaping, Office of Personnel Management.

Title: SF 15, Application for 10-Point Veteran Preference.

OMB Number: 3206-0001.

Affected Public: Disabled Veterans.

Number of Respondents: 18,418.

Estimated Time per Respondent: 33.5 minutes.

Total Burden Hours: 10,283 hours.

Office of Personnel Management.
Alexys Stanley,
Regulatory Affairs Analyst.

[FR Doc. 2018-25903 Filed 11-27-18; 8:45 am]

BILLING CODE 6325-39-P